DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated National and Blocked Persons List based on OFAC's determination that one or more applicable legal criteria were satisfied. All property and interests in property subject to U.S. jurisdiction of these persons are blocked, and U.S. persons are generally prohibited from engaging in transactions with them.

DATES: See SUPPLEMENTARY INFORMATION section for effective date(s).

FOR FURTHER INFORMATION CONTACT: OFAC: Associate Director for Global Targeting, tel.: 202-622-2420; Assistant Director for Sanctions Compliance & Evaluation, tel.: 202-622-2490; Assistant Director for Licensing, tel.: 202-622-2480; or the Department of the Treasury's Office of the General Counsel: Office of the Chief Counsel (Foreign Assets Control), tel.: 202-622-2410 (not toll free numbers).

SUPPLEMENTARY INFORMATION:

Electronic Availability

The Specially Designated Nationals and Blocked Persons List and additional information concerning OFAC sanctions programs are available on OFAC's Web site (www.treas.gov/ofac).

Notice of OFAC Actions

On September 14, 2017, OFAC determined that the property and interests in property subject to U.S. jurisdiction of the following persons are blocked under the relevant sanctions authorities listed below.

Individuals

1. AHMADZADEGAN, Sadegh (a.k.a. “el_nitr0jen”; a.k.a. “Nitr0jen”; a.k.a. “Nitr0jen26”); DOB 27 Oct 1992; nationality Iran; Additional Sanctions Information—Subject to Secondary Sanctions (individual) [CYBER2].

Designated pursuant to section 1(a)(ii)(C) of Executive Order 13694 of April 1, 2015, “Blocking the Property of Certain Persons Engaging in Significant Malicious Cyber-Enabled Activities,” (“E.O. 13694”) for causing a significant disruption to the availability of a computer or network of computers.

2. FATHI, Ahmad (a.k.a. “M3HRAN”; a.k.a. “M3S3C3”; a.k.a. “MOHAMMADI, Farhad”), No. 12, Saremi Street, Nejatollahi Street, Tehran, Iran; Gharani St., Besharat St., Saremi Alley, No. 12, Tehran, Tehran, Iran; DOB 11 Sep 1978; nationality Iran; Additional Sanctions Information—Subject to Secondary Sanctions; Identification Number 5725729366035 (Iran) (individual) [CYBER2] (Linked To: ITSEC TEAM).

Designated pursuant to section 1(a)(iii)(C) of E.O. 13694 for having acted or purported to act for or on behalf of, directly or indirectly, ITSec Team, a person whose property and interests in property are blocked pursuant to E.O. 13694.

3. FIROOZI, Hamid (a.k.a. “H4mid@Tm3l”); DOB 06 Aug 1981; alt. DOB 23 Jun 1981; alt. DOB 01 Jan 1980; nationality Iran; Additional Sanctions Information—Subject to Secondary Sanctions (individual) [CYBER2] (Linked To: ITSEC TEAM).

Designated pursuant to section 1(a)(iii)(C) of E.O. 13694 for having acted or purported to act for or on behalf of, directly or indirectly, ITSec Team, a person whose property and interests in property are blocked pursuant to E.O. 13694.

4. GHAFFARINIA, Omid; DOB 24 Jun 1990; nationality Iran; Additional Sanctions Information—Subject to Secondary Sanctions (individual) [CYBER2].

Designated pursuant to section 1(a)(ii)(C) of E.O. 13694 for causing a significant disruption to the availability of a computer or network of computers.

5. KEISSAR, Sina (a.k.a. “sina_molove”); DOB 20 May 1990; nationality Iran; Additional Sanctions Information—Subject to Secondary Sanctions (individual) [CYBER2].

Designated pursuant to section 1(a)(ii)(C) of E.O. 13694 for causing a significant disruption to the availability of a computer or network of computers.

6. SAEDI, Nader (a.k.a. “tahersaedi”; a.k.a. “turk_server”; a.k.a. “turkserver”); DOB 22 Feb 1990; nationality Iran; Additional Sanctions Information—Subject to Secondary Sanctions (individual) [CYBER2].

Designated pursuant to section 1(a)(ii)(C) of E.O. 13694 for causing a significant disruption to the availability of a computer or network of computers.

7. SHOKOHI, Amin (a.k.a. “Pejvak”); DOB 11 Jul 1990; alt. DOB 11 Jul 1989; alt. DOB 05 Aug 1981; POB Karaj, Iran; Additional Sanctions Information—Subject to Secondary Sanctions (individual) [CYBER2] (Linked To: ITSEC TEAM).

Designated pursuant to section 1(a)(iii)(C) of E.O. 13694 for having acted or purported to act for or on behalf of, directly or indirectly, ITSec Team, a person whose property and interests in property are blocked pursuant to E.O. 13694.

Entities

1. DART AIRLINES (a.k.a. DART AIRCOMPANY; a.k.a. DART UKRAINIAN AIRLINES; a.k.a. TOVARYSTVO Z OBMEZHENOYU VIDPOVIDALNISTYU 'DART'; a.k.a. “DART, LLC”; a.k.a. “DART, TOV”), 26a, Narodnogo Opolchenyia Street, Kiev 03151, Ukraine; Kv. 107, Bud. 15/2 Vul.Shuliavska, Kyiv 01054, Ukraine; Ave. Vozdukhoflostsky 90, Kiev 03036, Ukraine; Additional Sanctions Information—Subject to Secondary Sanctions; Tax ID No. 252030326052 (Ukraine); Government Gazette Number 25203037 (Ukraine) [SDGT] [IFSR].

Designated pursuant to section 1(d)(i) of Executive Order 13224 of September 23, 2001, “Blocking Property and Prohibiting Transactions With Persons Who Commit, Threaten to Commit, or Support Terrorism,” (“E.O. 13224”) for providing material support and services to CASPIAN AIR, a person whose property and interests in property are blocked pursuant to E.O. 13224.

2. ITSEC TEAM (a.k.a. AMN PARDAZESH KHARAZMI; a.k.a. “IT SECURITY & PENETRATION TESTING TEAM”; a.k.a. “POOYA DIGITAL SECURITY GROUP”), Unit 2, No. 129, Mir Ali Akbari St, Motahari Avenue, Tehran, Iran; Additional Sanctions Information—Subject to Secondary Sanctions [CYBER2].

Designated pursuant to section 1(a)(ii)(C) of E.O. 13694 for causing a significant disruption to the availability of a computer or network of computers.

3. KHORS AIRCOMPANY (a.k.a. AVIAKOMPANIYA KHORS, TOV; a.k.a. KHORS AIR; a.k.a. TOVARYSTVO Z OBMEZHENOYU VIDPOVIDALNISTYU 'AVIAKOMPANIYA 'KHORS'; a.k.a. “HORS AIRLINES LTD.”), 60 Volunska Street, Kiev 03151, Ukraine; Bud. 34 Bul.Lesi Ukrainky, Kyiv 01133, Ukraine; Lesi Ukraini Bulvar 34, Kiev 252133, Ukraine; Additional Sanctions Information—Subject to Secondary Sanctions; Government Gazette Number 04937956 (Ukraine) [SDGT] [IFSR].

Designated pursuant to section 1(d)(i) of E.O. 13224 for providing material support and services to CASPIAN AIR and AL-NASER AIRLINES, two persons whose property and interests in property are blocked pursuant to E.O. 13224.

4. SADID CARAN SABA ENGINEERING COMPANY (a.k.a. SADID CARAN SABA COMPANY; a.k.a. SADID CARAN SABA ENG. CO.; a.k.a. “S.C. SABA ENG CO.”; a.k.a. “SABA CRANE”), Unit 501, No. 17, Beside Samen Drugstore, Hakim West Highway, Tehran, Iran; No. 1401, Cross 5th Golazin and 2nd Golara, Eshtehard Industrial Zone, Eshtehard, Alborz, Iran; Additional Sanctions Information—Subject to Secondary Sanctions [NPWMD] [IFSR].

Designated pursuant to section 1(a)(iii) of Executive Order 13382 of June 28, 2005, “Blocking Property of Weapons of Mass Destruction Proliferators and Their Supporters” (“E.O. 13382”) for having provided, or attempted to provide, financial, material, technological or other support for, or goods or services in support of, Iran's ISLAMIC REVOLUTIONARY GUARD CORPS, a person whose property and interests in property are blocked pursuant to E.O. 13382.

Dated: September 14, 2017.
John. E. Smith,
Director, Office of Foreign Assets Control.

[FR Doc. 2017-19971 Filed 9-19-17; 8:45 am]

BILLING CODE 4810-AL-P